DEPARTMENT OF TRANSPORTATION

Federal Aviation Administration

Release of Airport Property: Page Field, Fort Myers, FL

AGENCY: Federal Aviation Administration (FAA), DOT.

ACTION: Request for Public Comment.

SUMMARY: The FAA hereby provides notice of intent to release certain airport properties 1.52 acres at Page Field, Fort Myers, FL from the conditions, release certain properties from all terms, conditions, reservations and restrictions of a Quitclaim Deed agreement, dated June 4, 1947, between the subject airport and the Federal Aviation Administration. The release of property will allow the Lee County Port Authority, owner of Page Field, to dispose of the property for other than aeronautical purposes. The property is located in the southwest corner of airport property, north of South Road, in Lee County, Florida. The parcel is currently designated as non-aeronautical use. The property will be released of its federal obligations to sell the property at Fair Market Value to Lee County for municipal purposes. The appraised Fair Market Value of the parcel is $64,628.

Documents reflecting the Sponsor's request are available, by appointment only, for inspection at the Lee County Port Authority Offices at Fort Myers International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before February 22, 2012.

ADDRESSES: Documents are available for review at the Lee County Port Authority Offices at Fort Myers International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

Bart Vernace,
Acting Manager, Orlando Airports District Office, Revision Date 11/22/00

[FR Doc. 2012-1053 Filed 1-20-12; 8:45 am]

BILLING CODE 4910-13-P